DEPARTMENT OF HEALTH AND HUMAN SERVICES

National Institutes of Health

Submission for OMB Review; Comment Request; an Evaluation of the National Cancer Institute Science Enrichment Program

SUMMARY: Under the provisions of section 3507(a)(1)(D) of the Paperwork Reduction Act of 1995, the National Cancer Institute (NCI), the National Institutes of Health (NIH) has submitted to the Office of Management and Budget (OMB) a request for review and approval of the information collection listed below. The purpose of this notice is to allow 30 days for public comment. The National Institutes of Health may not conduct or sponsor, and the respondent is not required to respond to, an information collection that has been extended, revised, or implemented on or after October 1, 1995, unless it displays a currently valid OMB control number.

Proposed Collection

Title: An Evaluation of the NCI Science Enrichment Program (SEP).

Type of Information Collection Request: New.

Need and Use of Information Collection: This evaluation will assess the effectiveness of the NCI SEP in making progress toward its goals of: (1) encouraging under-represented minority and under-served students who have just completed ninth grade to select careers in science, mathematics, and/or research, and (2) broadening and enriching students' science, research, and sociocultural backgrounds. The program is a 5 to 6-week residential program taking place on two university campuses—University of Kentucky, Lexington and San Diego State University. The 5-year evaluation is designed as a controlled, longitudinal study, consisting of the five SEP cohorts and three cohorts of control group students who do not attend the program. The evaluation will provide NCI with valuable information regarding specific components that promote or limit the program's effectiveness, the extent to which the program has been implemented as planned, how much the two regional programs vary, and how the program can be improved or made more effective. NCI will use this information to make decisions regarding continuation and expansion of the program.

Frequency of Response: Semi-annually.

Affected Public: Individuals or households and Federal Government.

Type of Respondents: High School and College students and parents. There is no estimated cost to respondents. The annual reporting burden is as follows:

Type of respondents | Average number of respondents/year | Frequency of response | Average time per response | Average annual hour burden
Estimates of Hour Burden: Burden Not Previously Approved (1998-2002)
SEP Participants | 200 | 1 | 0.5 | 100
Control Group Students | 200 | 1 | 0.5 | 100
Control Group Students | 100 | ⁽¹⁾ | 1.00 | 100
Total | 500 |  |  | 300
Estimates of Hour Burden: Burden Requested (2003)
SEP Participants | 500 | (²) | 0.5 | 250
Control Group Students | 300 | (²) | 0.5 | 150
Total | 800 |  |  | 400
¹ 2 (pre and post). ² 1 (follow up).

There are no Capitol Costs, Operating costs, and/or Maintenance Costs to report.

Request for Comments

Written comments and/or suggestions from the public and affected agencies are invited on one or more of the following points: (1) Whether the proposed collection of information is necessary for the proper performance of the function of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology.

Direct Comments to OMB

Written comments and/or suggestions regarding the item(s) contained in the notice, especially regarding the estimated public burden and associated response time, should be directed to the Office of Management and Budget, Office of Regulatory Affairs, New Executive Office Building, Room 10235, Washington, DC 20503, Attention: Desk Officer for NIH. To request more information on the proposed project or to obtain a copy of the data collection plans and instruments, contact Mr. Frank Jackson, Office of Special Populations Research, National Cancer Institute, National Institutes of Health, 6116 Executive Boulevard, Room 602, Rockville, MD 20852, or call non-toll-free number (301) 496-8589, or e-mail your request, including your address to: fj12i@nih.gov.

Comments Due Date

Comments regarding this information collection are best assured of having their full effect if received within 30 days of this publication.

Dated: August 8, 2002.
Reesa Nichols,
NCI Project Clearance Liaison.

[FR Doc. 02-20693 Filed 8-14-02; 8:45 am]

BILLING CODE 4140-01-M